CORPORATION FOR NATIONAL AND COMMUNITY SERVICE

45 CFR Part 2500

RIN 3045-AA75

Agency Operating Name, Adoption of New Logos, & Retirement of Logos

AGENCY: Corporation for National and Community Service.

ACTION: Final rule.

SUMMARY: This rule makes non-substantive amendments to the Corporation for National and Community Service's (CNCS) regulations to change the operating name of the agency to “AmeriCorps,” to adopt two new logos, and to retire all existing logos, except Days of Service, from daily use. This final rule adds a new part—2500—to Title 45 of the Code of Federal Regulations to reflect the operational name change, new logos, and retirement of logos. This rule is not intended to change the legal effect of the use of the name AmeriCorps as defined in agency's regulations.

DATES: This rule is effective on October 15, 2020.

FOR FURTHER INFORMATION CONTACT: Amy Borgstrom at the Corporation for National and Community Service, 250 E Street SW, Washington, DC 20525, aborgstrom@cns.gov, phone 202-422-2781.

SUPPLEMENTARY INFORMATION:

I. Background

Throughout 2017 and 2018, the Corporation for National and Community Service coordinated efforts to increase its effectiveness, efficiency, and accountability. This effort culminated in the 2018 announcement of CNCS's Transformation and Sustainability Plan (Plan) that set forth six goals that included simplifying CNCS's brand. After CNCS issued the Plan, the agency focused its efforts on implementing the Plan's six goals. This rule is the outcome of the implementation of Goal 5 to “simplify the CNCS brand.”

To gain insight and knowledge about the CNCS brand, the agency engaged in a multi-stage, in-depth research analysis that included an open comment period, in-depth interviews, and a survey of nearly 4,000 members, volunteers, grantees, sponsors, and service program alumni. The results of this research showed that 80 percent of the general public is not familiar with CNCS. Only 12 percent of the general public can correctly identify the main purpose of CNCS. Of CNCS's actual grantees and sponsors, 50 percent said it can be difficult to explain the AmeriCorps and Senior Corps programs.

After conducting a lengthy research and development process and considering feedback from stakeholders, staff, and the public, the agency is adopting a new name: AmeriCorps. The agency is adopting the following two official logos and retiring for use all existing logos, including those for the following programs: Foster Grandparents, Senior Companions, RSVP, AmeriCorps State and National, AmeriCorps VISTA, AmeriCorps NCCC, and the Volunteer Generation Fund.

The adoption of an operating name for CNCS does not change the legal name of the agency, which will remain the Corporation for National and Community Service. Thus, Congress will continue to appropriate funds to CNCS (and the agency's Congressional Budget Request would still be issued as CNCS). The formal title of the head of the agency (i.e., for purposes of Presidential appointment and Senate confirmation) will remain the Chief Executive Officer of the Corporation for National and Community Service. However, the agency will use the adopted operating name in virtually every other context, including referring to the head of the agency as the Chief Executive Officer of AmeriCorps.

Changing the operational name does not change the mission or structure of the agency's programs, their names, or their funding streams. Rather, it will focus and unify promotion efforts under one operating name and the two new logos to elevate awareness of the opportunities for all Americans.

II. Regulatory Procedures

Inapplicability of Prior Public Notice and Delayed Effective Date Requirements

This regulation involves matters relating to agency management and involves a technical change regarding the name of the two CNCS components. For this reason, pursuant to 5 U.S.C. 553(a)(2), prior notice and comment is not required. Because this is not a substantive rule, publication and service of the rule thirty days before its effective date, pursuant to 5 U.S.C. 553(d), is likewise not required.

Regulatory Planning and Review

Executive Orders 12866 and 13563 direct agencies to assess the costs and benefits of available regulatory alternatives and, if regulation is necessary, to select regulatory approaches that maximize net benefits.

Executive Order 13771 directs agencies to control regulatory costs through a budgeting process. This rule has not been designated a “significant regulatory action,” under Executive Order 12866. Accordingly, this rule has not been reviewed by the Office of Management and Budget (OMB), and pursuant to OMB guidance it is exempt from the requirements of Executive Order 13771.

This regulatory action determination is based on the finding that the name and logo change will have no substantive effect on the public.

Regulatory Flexibility Act

As required by the Regulatory Flexibility Act of 1980 (5 U.S.C. 605 (b)), CNCS certifies that this rule, if adopted, will not have a significant economic impact on a substantial number of small entities. This regulatory action will not result in (1) an annual effect on the economy of $100 million or more; (2) a major increase in costs or prices for consumers, individual industries, Federal, state, or local government agencies, or geographic regions; or (3) significant adverse effects on competition, employment, investment, productivity, innovation, or on the ability of United States-based enterprises to compete with foreign-based enterprises in domestic and export markets. Therefore, CNCS has not performed the initial regulatory flexibility analysis that is required under the Regulatory Flexibility Act (5 U.S.C. 601 et seq.) for major rules that are expected to have such results.

Unfunded Mandates

For purposes of Title II of the Unfunded Mandates Reform Act of 1995, 2 U.S.C. 1531-1538, as well as Executive Order 12875, this regulatory action does not contain any Federal mandate that may result in increased expenditures in either Federal, state, local, or tribal governments in the aggregate, or impose an annual burden exceeding $100 million on the private sector.

Executive Order 13132, Federalism

Executive Order 13132, Federalism, prohibits an agency from publishing any rule that has Federalism implications if the rule imposes substantial direct compliance costs on state and local governments and is not required by statute, or the rule preempts state law, unless the agency meets the consultation and funding requirements of section 6 of the Executive Order. This rule does not have any Federalism implications, as described above.

List of Subjects in 45 CFR Part 2500

Agency name and logos.

For the reasons set out in the preamble, CNCS adds part 2500 to Title 45, Subtitle B of the Code of Federal Regulations as follows:

PART 2500—AGENCY OPERATING NAME AND LOGOS

Sec.
2500.1 Agency Operating Name
2500.2 Description of Logos
2500.3 Retirement of Logos
2500.4 Authority to affix logos

Authority: 42 U.S.C. 12651c (c); 12653 (a) and (f).

§ 2500.1 Agency Operating Name.

(a) The Corporation for National and Community Service adopts AmeriCorps as its official agency operating name.

(b) Use of AmeriCorps as the agency operating name incorporates the Corporation for National and Community Service by reference.

§ 2500.2 Description of Logos.

(a) The AmeriCorps Logo (Logo) is the key element in agency identification. It provides a visual representation of the agency's role to unite America by bringing people together to serve communities. It is symbolic of the way AmeriCorps members and volunteers lift and improve communities through service and volunteering. This Logo is the visual link which connects the graphic communications of all Agency programs.

(b) The Logo is described as follows: The logo is an image of a solid circle containing an A where one pillar is a solid block line and the other is represented by a flag pole with the flag in motion, appearing to fly from the left to the right and forming the A as the flag intersects with the other pillar. AmeriCorps appears in bold to the right of the mark.

(c) The AmeriCorps Seniors Logo (Seniors Logo) identifies the highlighted AmeriCorps Seniors programs and represents the agency's commitment to programs and volunteer opportunities for the older American population.

(d) The AmeriCorps Seniors Logo is described as follows: The word Seniors appears beneath AmeriCorps to the right of the circle containing the A.

§ 2500.3 Retirement of Logos.

The agency officially retires the day-to-day use of all pre-existing logos, emblems, and other insignia, except the Days of Service logos, but does not relinquish the legal rights to these logos.

§ 2500.4 Authority to affix logos.

Restrictions on the use of AmeriCorps logos are found in 45 CFR 2540.500 through 2540.560.

Dated: September 4, 2020.
Helen Serassio,
Acting General Counsel.

[FR Doc. 2020-20318 Filed 10-14-20; 8:45 am]

BILLING CODE 6050-28-P